DEPARTMENT OF AGRICULTURE

Deschutes Provincial Advisory Committee (DPAC)

AGENCY: Forest Service, USDA.

ACTION: Notice of meeting.

SUMMARY: The Deschutes Provincial Advisory Committee will meet on October 29, 2008, starting at 8 a.m. at the Deschutes National Forest Supervisor's Office, 1001 SW Emkay Drive, Bend, Oregon. There will be a 1 hour business meeting. Then, members will go to the field to the Bend Ft. Rock Ranger District to discuss strategies for the local forest at risk to insects. The trip is scheduled to end at 4:30 p.m. All Deschutes Province Advisory Committee Meetings are open to the public and an open public forum is scheduled from 8:30 to 9 a.m.

FOR FURTHER INFORMATION CONTACT: Chris Mickle, Province Liaison, Crescent Ranger District, Highway 97, Crescent, Oregon 97733, Phone (541) 433-3216.

John Allen,
Deschutes National Forest Supervisor.

[FR Doc. E8-25281 Filed 10-23-08; 8:45 am]

BILLING CODE 3410-11-M